DEPARTMENT OF AGRICULTURE

Forest Service

Notice of New Fee Site; Federal Lands Recreation Enhancement Act, (Title VIII, Pub. L. 108-447)

AGENCY: Coronado National Forest, USDA Forest Service, Arizona.

ACTION: Notice of new fee site.

SUMMARY: The Coronado National Forest proposes to begin charging a new $200.00 fee for the daily rental of the Headquarters Building adjacent to an existing small rental cabin at Kentucky Camp near Sonoita, Arizona. Rental of the Headquarters Building may eventually expand to include overnight use, but will initially be managed for day-use events. The existing small rental cabin currently rents for an overnight fee of $75.00 a night and can be rented independently of the Headquarters Building. Rental of the cabin and other facilities within the Arizona National Forests has shown that the public appreciates and enjoys the availability of historic rental facilities. Funds from the rentals will be used for the continued operation and maintenance of Kentucky Camp.

DATES: Kentucky Camp Headquarters will become available for rent January 2008.

ADDRESSES: Forest Supervisor, Coronado National Forest, 300 West Congress, Tucson, Arizona, 85701.

FOR FURTHER INFORMATION CONTACT: Kathy Makansi, Archaeologist, Coronado National Forest, 520-760-2502.

SUPPLEMENTARY INFORMATION: The Federal Recreation Lands Enhancement Act (Title VII, Pub. L. 108-447) directed the Secretary of Agriculture to publish a six month advance in the Federal Register whenever new recreation fee areas are established. The Coronado National Forest currently has one other rental facility. This rental is booked regularly throughout the rental season. A business analysis for the rental of Kentucky Camp shows that people desire having this sort of recreation experience on the Coronado National Forest. A market analysis indicates that the $200 daily fee is both reasonable and acceptable for this sort of unique recreation experience.

People wanting to rent Kentucky Camp will need to do so through the National Recreation Reservation Service, at http://www.recreation.gov or by calling 1-877-444-6777. The National Recreation Reservation Service charges a $9 fee per reservation.

Dated: June 28, 2007.
Jeanine A. Derby,
Forest Supervisor, Coronado National Forest.

[FR Doc. 07-3428 Filed 7-12-07; 8:45 am]

BILLING CODE 3410-11-M